DEPARTMENT OF TRANSPORTATION

Federal Aviation Administration

14 CFR Part 39

[Docket No. FAA-2012-0643; Directorate Identifier 2011-NM-190-AD]

RIN 2120-AA64

Airworthiness Directives; Fokker Services B.V. Airplanes

AGENCY: Federal Aviation Administration (FAA), DOT.

ACTION: Notice of proposed rulemaking (NPRM).

SUMMARY: We propose to supersede an existing airworthiness directive (AD) that applies to certain Fokker Services B.V. Model F.28 Mark 0070 and 0100 airplanes. The existing AD currently requires performing a detailed visual inspection for cracks of the pistons on the main landing gear (MLG), and replacing the affected pistons if necessary. Since we issued that AD, a new modification has been developed to safeguard the integrity of the MLG assembly and improve surface protection of the affected area of the MLG piston. This proposed AD would also require modifying the MLG by installing a piston containing a certain part number, and revising the aircraft maintenance program. We are proposing this AD to prevent MLG failure, possibly resulting in loss of control of the airplane during the landing roll-out.

DATES: We must receive comments on this proposed AD by August 6, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Fokker service information identified in this proposed AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com. For Goodrich service information identified in this proposed AD, contact Goodrich, 1400 South Service Road, West Oakville, L6L 5Y7, Ontario, Canada, telephone +1-905-827-7777; fax +1-905-825-1583; Internet http://www.goodrich.com/TechPubs. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone 425-227-1137; fax 425-227-1149.

SUPPLEMENTARY INFORMATION:

Comments Invited

We invite you to send any written relevant data, views, or arguments about this proposed AD. Send your comments to an address listed under the ADDRESSES section. Include “Docket No. FAA-2012-0643; Directorate Identifier 2011-NM-190-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 31, 2011, we issued AD 2011-04-01, Amendment 39-16601 (76 FR 8618, February 15, 2011). That AD required actions intended to address an unsafe condition on the products listed above.

Since we issued AD 2011-04-01, Amendment 39-16601 (76 FR 8618, February 15, 2011), a new modification has been developed to safeguard the integrity of the MLG assembly and improve surface protection of the affected area of the MLG piston. The European Aviation Safety Agency (EASA), which is the Technical Agent for the Member States of the European Community, has issued EASA Airworthiness Directive 2011-0159, dated August 26, 2011 (referred to after this as “the MCAI”), to correct an unsafe condition for the specified products. The MCAI states:

During a normal walk around check on a F28 Mark 0100 aeroplane, a large crack was discovered in the lower portion of the right (RH) MLG piston. The affected MLG unit had accumulated 7,909 flight cycles (FC) at the time of detection. The piston was sent to Goodrich, the landing gear manufacturer, for detailed investigation, which revealed that the crack had been initiated by corrosion pits. The extent of the corrosion indicates that the initial crack existed for a substantial period before a high loading event caused the crack to grow further by ductile overload.

This condition, if not detected and corrected, could lead to MLG failure during the landing roll-out, possibly resulting in damage to the aeroplane and injury to occupants.

To address this potential unsafe condition, EASA issued AD 2009-0221 [which corresponds with FAA AD 2011-04-01, Amendment 39-16601 (76 FR 8618, February 15, 2011)] to require a one-time detailed visual inspection of the MLG pistons, the replacement of any MLG pistons on which cracks are detected, and the reporting of all findings to the aeroplane TC [type certificate] holder. No cracks were reported as a result of this inspection.

Subsequently, a repetitive inspection was introduced in the Airworthiness Limitations Section (Fokker Services report SE-623 Issue 8) in Appendix 1 of the Maintenance Review Board (MRB) document to safeguard the integrity of the MLG assembly, pending the accomplishment of a terminating action.

Goodrich issued Service Bulletin (SB) 41000-32-29 to introduce an improved surface protection (nickel plate) of the affected area of the MLG piston P/N [part number] 41141-3 and re-identification as P/N 41141-5, which is considered as a terminating action for the repetitive inspections.

For the reasons described above, this [EASA] AD requires repetitive visual inspections of the P/N 41141-3 MLG piston for cracks and, depending on findings, replacement or modification of the MLG piston. This [EASA] AD also requires modification of the affected MLG by installing a piston P/N 41141-5.

You may obtain further information by examining the MCAI in the AD docket.

Relevant Service Information

Fokker Services B.V. has issued Fokker Service Bulletin SBF100-32-161, dated April 7, 2011; and Fokker Engineering Report, MRB Appendix 1, SE-623, Issue 8, dated March 17, 2011. Goodrich Aerospace Canada Ltd. has issued Goodrich Service Bulletin 41000-32-29, dated November 10, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 2 products of U.S. registry.

The actions that are required by AD 2011-04-01, Amendment 39-16601 (76 FR 8618, February 15, 2011), and retained in this proposed AD take about 3 work-hours per product, at an average labor rate of $85 per work hour. Based on these figures, the estimated cost of the currently required actions is $255 per product.

We estimate that it would take about 26 work-hours per product to comply with the new basic requirements of this proposed AD. The average labor rate is $85 per work-hour. Based on these figures, we estimate the cost of the proposed AD on U.S. operators to be $4,420, or $2,210 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-04-01, Amendment 39-16601 (76 FR 8618, February 15, 2011), and adding the following new AD:

Fokker Services B.V.: Docket No. FAA-2012-0643; Directorate Identifier 2011-NM-190-AD.

(a) Comments Due Date

We must receive comments by August 6, 2012.

(b) Affected ADs

This AD supersedes AD 2011-04-01, Amendment 39-16601 (76 FR 8618, February 15, 2011).

(c) Applicability

(1) This AD applies to Fokker Services B.V. Model F.28 Mark 0070 and 0100 airplanes; certificated in any category; all serial numbers, equipped with Goodrich (formerly Menasco, Colt Industries) main landing gear (MLG) units, part numbers (P/N) 41050-7, 41050-8, 41050-9, 41050-10, 41050-11, 41050-12, 41050-13, 41050-14, 41050-15, 41050-16, 41060-1, 41060-2, 41060-3, 41060-4, 41060-5 or 41060-6.

(2) This AD requires revisions to certain operator maintenance documents to include new actions (e.g., inspections). Compliance with these inspections is required by 14 CFR 91.403(c). For airplanes that have been previously modified, altered, or repaired in the areas addressed by these actions, the operator may not be able to accomplish the actions described in the revisions. In this situation, to comply with 14 CFR 91.403(c), the operator must request approval for an alternative method of compliance according to paragraph (n)(1) of this AD. The request should include a description of changes to the required inspections that will ensure the continued operational safety of the airplane.

(d) Subject

Air Transport Association (ATA) of America Code 32: Main Landing Gear.

(e) Reason

This AD was prompted by a new modification developed to safeguard the integrity of the MLG assembly and improve surface protection of the affected area of the MLG piston. We are issuing this AD to prevent MLG failure, possibly resulting in loss of control of the airplane during the landing roll-out.

(f) Compliance

You are responsible for having the actions required by this AD performed within the compliance times specified, unless the actions have already been done.

(g) Retained Initial Inspection

This paragraph restates the initial inspection required by paragraph (g) of AD 2011-04-01, Amendment 39-16601 (76 FR 8618, February 15, 2011). Within 30 days after March 22, 2011 (the effective date of AD 2011-04-01), do a detailed visual inspection for cracks of the MLG pistons, in accordance with the Accomplishment Instructions of Fokker Service Bulletin SBF100-32-158, dated October 2, 2009.

(h) Retained Replacement

This paragraph restates the replacement required by paragraph (h) of AD 2011-04-01, Amendment 39-16601 (76 FR 8618, February 15, 2011). If any cracked MLG piston is found during the inspection required by paragraph (g) of this AD, before further flight, replace the affected piston with a serviceable part, in accordance with the Accomplishment Instructions of Fokker Service Bulletin SBF100-32-158, dated October 2, 2009.

(i) New Requirement: Modification

Within 120 months, or during a scheduled overhaul of the MLG, whichever occurs first after the effective date of this AD: Modify the MLG by installing a piston containing P/N 41141-5, in accordance with the Accomplishment Instructions of Fokker Service Bulletin SBF100-32-161, dated April 7, 2011. Re-installation of a MLG piston which has been modified and re-identified as P/N 41141-5, in accordance with the Accomplishment Instructions of Goodrich Service Bulletin 41000-32-29, dated November 10, 2010, is an optional method of compliance for the requirements in this paragraph of this AD. It is acceptable to operate an airplane with one MLG having a P/N 41141-5 piston installed, and the other MLG having a P/N 41141-3 piston installed, provided all MLG P/N 41141-3 are replaced within the compliance times specified in paragraph (i) of this AD.

(j) New Requirement: Parts Installation

After 120 months after the effective date of this AD: No person may install a MLG piston, P/N 41141-3, or a MLG unit equipped with a MLG piston P/N 41141-3, on any airplane.

(k) New Requirement: Revising the Airplane Maintenance Program

Within two months after the effective date of this AD: Revise the airplane maintenance program by incorporating Task 321100-01-16, inspection of the MLG piston, and associated thresholds and intervals described in Fokker Engineering Report, MRB Appendix 1, SE-623, Issue 8, dated March 17, 2011. The initial compliance time for Task 321100-01-16 is within two months after the effective date of this AD.

(l) No Alternative Actions or Intervals

After accomplishing the revisions required by paragraph (k) of this AD, no alternative actions (e.g., inspections) or intervals may be used other than those specified in Fokker Engineering Report, MRB Appendix 1, SE-623, Issue 8, dated March 17, 2011, unless the actions and intervals are approved as an AMOC in accordance with the procedures specified in paragraph (m)(1) of this AD.

(m) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(n) Related Information

(1) Refer to MCAI European Aviation Safety Agency Airworthiness Directive 2011-0159, dated August 26, 2011; and the service information specified in paragraphs (n)(1)(i) through (n)(1)(iv) of this AD; for related information.

(i) Fokker Service Bulletin SBF100-32-161, dated April 7, 2011.

(ii) Fokker Services Engineering Report, MRB Appendix 1, SE-623, Issue 8, dated March 17, 2011.

(iii) Goodrich Service Bulletin 41000-32-29, dated November 10, 2010.

(iv) Fokker Service Bulletin SBF100-32-158, dated October 2, 2009.

(2) For Fokker service information identified in this AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com. For Goodrich service information identified in this AD, contact Goodrich, 1400 South Service Road, West Oakville, L6L 5Y7, Ontario, Canada, telephone +1-905-827-7777; fax +1-905-825-1583; Internet http://www.goodrich.com/TechPubs. You may review copies of the referenced service information at the FAA, Transport Airplane Directorate, 1601 Lind Avenue SW., Renton, Washington. For information on the availability of this material at the FAA, call 425-227-1221.

Issued in Renton, Washington, on June 12, 2012.
Kalene C. Yanamura,
Acting Manager, Transport Airplane Directorate, Aircraft Certification Service.

[FR Doc. 2012-15166 Filed 6-20-12; 8:45 am]

BILLING CODE 4910-13-P